DEPARTMENT OF THE INTERIOR

National Park Service

National Register of Historic Places; Notification of Pending Nominations and Related Actions

Nominations for the following properties being considered for listing or related actions in the National Register were received by the National Park Service before July 28, 2007. Pursuant to § 60.13 of 36 CFR Part 60 written comments concerning the significance of these properties under the National Register criteria for evaluation may be forwarded by United States Postal Service, to the National Register of Historic Places, National Park Service, 1849 C St., NW., 2280, Washington, DC 20240; by all other carriers, National Register of Historic Places, National Park Service, 1201 Eye St., NW., 8th floor, Washington, DC 20005; or by fax, 202-371-6447. Written or faxed comments should be submitted by August 28, 2007.

J. Paul Loether,
Chief, National Register of Historic Places/National Historic Landmarks Program.

FLORIDA

Leon County

Billingsley Farm, 3640 Oakhurst Ln., Tallahassee, 07000897.

ILLINOIS

Cook County

Hatch, William H., House, 309 Keystone Ave., River Forest, 07000898.

Lake County

West Park Neighbourhood Historic District, Roughly bounded by Green Bay Rd., Westminster, Oakwood, and Atteridge Rds., Lake Forest, 07000900.

Winnebago County

West Downtown Rockford Historic District, Roughly bounded by Park Ave., State St., Church St., and Wyman St., Rockford, 07000899.

LOUISIANA

Orleans Parish

Carrollton Historic District (Boundary Increase), Roughly bounded Claiborne, National Octavia, Grape and Lowerline, New Orleans, 07000901.

NORTH CAROLINA

Caldwell County

Lenoir Downtown Historic District, Roughly bounded by Ashe Ave., Mulberry St., Harper Ave., Church St., and Boundary St., Lenoir, 07000905.

Cumberland County

Verdery, Dr. William C., House, 1428 Raeford Rd., Fayetteville, 07000904.

Franklin County

McGhee, C.L. and Bessie G., House, 103 W. Mason St., Franklinton, 07000903.

Wake County

Boylan Apartments, 817 Hillsborough St., Raleigh, 07000902.

Washington County

Davenport House, VA 1143 (Mount Tabor Rd. and VA 1146 (Mount Tabor Road-Backwoods Creswell, 07000932.

OKLAHOMA

Atoka County

First Presbyterian Church, 212 E. 1st St., Atoka, 07000914.

Creek County

Bristow Firestone Service Station, (Route 66 and Associated Resources in Oklahoma AD MPS), 321 N. Main, Bristow, 07000912.

Dewey County

Vici M-K-T Depot, Houser St., Bet. 7th St. and 8th St., Vici, 07000911.

Kay County

Tonkawa Lodge No. 157 A.F. & A.M., 112 N. 7th St., Tonkawa, 07000910.

Love County

Love County Jail and Sheriff's House, 408 1/2 W. Chickasaw, Marietta, 07000916.

Santa Fe Depot

101 SE Front, Marietta, 07000913.

Oklahoma County

Film Exchange Historic District, Jct. of W. Sheridan Ave. and Lee Ave., Oklahoma City, 07000908.

Texas County

Franklin Hall, 201 N. College Ave., Goodwell, 07000909.

Tulsa County

Buena Vista Park Historic District, Roughly bounded by W. 18th St. S, rear lot lines of W of S. Cheyenne Ave., W, W. 21st St. S and Riverside Dr./S, Carson, Tulsa, 07000919.

Carlton Place Historic District, Bounded by W. 14th St. S, S. Carson Ave. W., W. 15th St. S and S. Cathage Ave. W, Tulsa, 07000907.

Riverview Historic District, Roughly bounded by W. 12th and 13th Sts. S, E of S. Elwood Ave. W., W., 14th Place S., S. Riverside Dr., S. Jackson Ave., Tulsa, 07000906.

Stonebraker Heights Historic District, Roughly bounded by W. 15th St. S., Alley E of South Cheyenne Ave. W., W., 17th St. S and S. Elwood Ave. W, Tulsa, 07000917.

Will Rogers High School, 3909 E. 5th Place, Tulsa, 07000918.

Woodward County

Woodward Federal Courthouse and Post Office, 1023 10th St., Woodward, 07000915.

OREGON

Clackamas County

Williamette Falls Locks, W bank of Williamette R, West Linn, 07000920.

Douglas County

English Settlement School, 17455 Elkhead Rd., Oakland, 07000924.

Jackson County

Cooley—Neff Warehouse, 340 N. Fir St., Medford, 07000923.

Multnomah County

Gerber, G.G., Building, 210 NW 11th Ave., Portland, 07000922.

Olson, Charles and Fae, House, 765 SW Walters Rd., Gresham, 07000921.

Smith, Alfred H. and Mary E., House, 1806 SW High St., Portland, 07000926.

SOUTH CAROLINA

Charleston County

Atlanticville Historic District, (Sullivan's Island, South Island MPS), Middle St., Jasper Blvd., Myrtle Ave. bet. Stations 22½ and 26, Sullivan's Island, 07000927.

Fort Moultrie Quartermaster and Support Facilities Historic District, (Sullivan's Island, South Island MPS), Middle St. and Thompson Ave., bet. Stations 14 and 16.5, Sullivan's Island, 07000925.

Moultrieville Historic District, (Sullivan's Island, South Island MPS), Middle St. and Osceola Ave., bet. stations 11 and 12, Sullivan's Island, 07000928.

Sullivan's Island Historic District, (Sullivan's Island, South Island MPS), Middle St., I'on Ave. and Central Ave. bet. Stations 17 and 18½, Sullivan's Island, 07000929.

TENNESSEE

Marion County

Marion Memorial Bridge, US 41 at Nickajack Lake, Haletown, 07000930.

VIRGINIA

Hanover County

Cool Well, 8198 Shady Grove Rd, Mechanicsville, 07000931.

WASHINGTON

Grays Harbor County

Masonic Temple—Hoquiam, 510 8th St., Hoquian, 07000934.

WISCONSIN

Dane County

Gilbert, John and Flora, House, 357 N. Main St., Oregon, 07000933.

A request for REMOVAL has been made for the following resource:

NEW MEXICO

Eddy County

Sipple-Ward Building, 331 W. Main St., Artesia, 91001503.

[FR Doc. E7-15748 Filed 8-9-07; 8:45 am]

BILLING CODE 4312-51-P